DEPARTMENT OF COMMERCE

National Oceanic and Atmospheric Administration

RIN 0648-XA703

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an exempted fishing permit application contains all of the required information and warrants further consideration. This permit would allow two commercial fishing vessels to test the economic viability of using electric rod and reel gear to target pollock in the Western Gulf of Maine Closure Area and to temporarily retain undersized catch for measurement and data collection. The study would be conducted by the School for Marine Science and Technology at the University of Massachusetts, Dartmouth.

Regulations under the Magnuson-Stevens Fishery Conservation and Management Act require publication of this notification to provide interested parties the opportunity to comment on applications for proposed exempted fishing permits.

DATES: Comments must be received on or before November 4, 2011.

ADDRESSES: You may submit written comments by any of the following methods:

• E-mail: nero.efp@noaa.gov. Include in the subject line “Comments on Rod and Reel Fishing in WGOM Closed Area EFP.”

• Mail: Patricia A. Kurkul, Regional Administrator, NMFS, NE Regional Office, 55 Great Republic Drive, Gloucester, MA 01930. Mark the outside of the envelope “Comments on SMAST EFP.”

• Fax: (978) 281-9135.

FOR FURTHER INFORMATION CONTACT: Brett Alger, Fisheries Management Specialist, 978-675-2153, brett.alger@noaa.gov.

SUPPLEMENTARY INFORMATION: The School for Marine Science and Technology at the University of Massachusetts, Dartmouth (SMAST) submitted a complete application for an exempted fishing permit (EFP) on August 31, 2011, to conduct commercial fishing activities that the regulations would otherwise restrict. The EFP would authorize two vessels to use electric rod and reel gear in the Western Gulf of Maine (GOM) Closure Area and to temporarily retain undersized catch for measurement and data collection.

The project, titled “Utilization of Electric Rod and Reel to Target Pollock in WGOM Closed Area,” is funded by NOAA's Northeast Cooperative Research Program through the network project GEARNET. In addition to testing the economic viability of using electric rod and reel gear to target pollock, and allow the vessels to temporarily retain undersized fish for data collection purposes, the project may also investigate if the gear could be used as an effective stock assessment tool within closed areas. The study would take place in the Western GOM Closure Area, during November and December 2011, with two vessels planning to fish 10 days each, for a total of 20 research days. The exemptions are necessary because groundfish vessels on commercial groundfish trips are prohibited from fishing in the Western GOM Closure Area and from retaining undersized fish. Each vessel would use four electric rod and reels each day and fish for approximately 8 hours, with an additional 4 hours of steaming, for a total trip of 12 hours. Fishing would primarily occur within the Western GOM Closure Area, with some effort being conducted outside the area. SMAST is requesting access to the Western GOM Closure Area based on its belief that pollock is concentrated in this area.

A technician would be on board the vessel to measure fish caught (retained and discarded), document fishing gear, bait, location, and fishing conditions to evaluate gear performance. Undersized fish would be discarded. All Northeast multispecies of legal size would be landed, with all catch being attributed to the sector vessel's annual catch entitlement. Proceeds from the sales would be retained by the vessels.

In order to ensure that catch does not exceed the amount of targeted and bycatch species estimated by SMAST, a trigger clause would be placed on the EFP. Based on reported landings and discards, the EFP would be rescinded should catch (landings and discards) exceed any of the following amounts (per vessel): Pollock: 6,000 lb (2,722 kg); cod: 1,000 lb (454 kg); haddock: 1,000 lb (454 kg); American plaice: 100 lb (45.4 kg); yellowtail flounder: 100 lb (45.4 kg); witch flounder: 100 lb (45.4 kg); winter flounder: 100 lb (45.4 kg); spiny dogfish: 1,000 lb (454 kg); smooth dogfish: 200 lb (90.7 kg); thorny skate: 1,000 lb (454 kg); and winter skate: 1,000 lb (454 kg).

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

The Assistant Regional Administrator has made an initial determination that, based on a preliminary review of the proposed subject research and the criteria provided in section 5.05a-c and section 6.03c.3(a) of NAO 216-6, a Categorical Exclusion (CE) appears to be justified for this EFP. In accordance with NOA 216-6, a CE, or other appropriate NEPA document, would be completed prior to the issuance of the EFP. Further review and consultation may be necessary before a final determination is made to issue the EFP.

Authority: 16 U.S.C. 1801 et seq.

Dated: October 17, 2011.
Steven Thur,
Acting Director, Office of Sustainable Fisheries, National Marine Fisheries Service.

[FR Doc. 2011-27211 Filed 10-19-11; 8:45 am]

BILLING CODE 3510-22-P